DEPARTMENT OF TRANSPORTATION

Federal Aviation Administration

14 CFR Part 39

[Docket No. 99-NM-359-AD]

RIN 2120-AA64

Airworthiness Directives; Bombardier Model DHC-8-102, -103, and -301 Series Airplanes

AGENCY: Federal Aviation Administration, DOT.

ACTION: Notice of proposed rulemaking (NPRM).

SUMMARY: This document proposes the supersedure of an existing airworthiness directive (AD), applicable to certain Bombardier Model DHC-8-102, -103, and --301 series airplanes, that currently requires a one-time inspection for wear and breakage of wire segments of the individual lighting units of the ceiling and sidewall lights, and replacement of any damaged wiring. The existing AD also requires installation of teflon spiral wrap on the wiring of the ceiling and sidewall lights. This action would add a requirement for a one-time inspection to determine if teflon spiral wrap is installed on the wiring of the lavatory lighting system, and installation, if necessary. This proposal is prompted by issuance of mandatory continuing airworthiness information by a foreign civil airworthiness authority. The actions specified by the proposed AD are intended to prevent the possibility of a fire on an airplane due to such chafing and consequent short circuiting, overheating, and smoking of the wires on the aircraft structure.

DATES: Comments must be received by September 22, 2000.

ADDRESSES: Submit comments in triplicate to the Federal Aviation Administration (FAA), Transport Airplane Directorate, ANM-114, Attention: Rules Docket No. 99-NM-359-AD, 1601 Lind Avenue, SW., Renton, Washington 98055-4056. Comments may be inspected at this location between 9:00 a.m. and 3:00 p.m., Monday through Friday, except Federal holidays. Comments may also be sent via the Internet using the following address: 9-anm-nprmcomment@faa.gov. Comments sent via the Internet must contain “Docket No. 99-NM-359-AD” in the subject line and need not be submitted in triplicate. Comments sent via the Internet as attached electronic files must be formatted in Microsoft Word 97 for Windows or ASCII text.

The service information referenced in the proposed rule may be obtained from Bombardier, Inc., Bombardier Regional Aircraft Division, 123 Garratt Boulevard, Downsview, Ontario M3K 1Y5, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Luciano Castracane, Aerospace Engineer, New York Aircraft Certification Office, Systems & Flight Test Branch (ANE-172), FAA, 10 Fifth Street, Third Floor, Valley Stream, New York 11581; telephone (516) 256-7535; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-359--AD.” The postcard will be date stamped and returned to the commenter.

Availability of NPRMs

Any person may obtain a copy of this NPRM by submitting a request to the FAA, Transport Airplane Directorate, ANM-114, Attention: Rules Docket No. 99-NM-359-AD, 1601 Lind Avenue, SW., Renton, Washington 98055-4056.

Discussion

On May 20, 1998, the FAA issued AD 98-11-21, amendment 39-10546 (63 FR 29546, July 6, 1998), applicable to certain de Havilland Model DHC-8-102, -103, and -301 series airplanes, to require a one-time inspection for wear and breakage of wire segments of the individual lighting units of the ceiling and sidewall lights, and replacement of any damaged wiring. That AD also requires installation of teflon spiral wrap on the wiring of the ceiling and sidewall lights. That action was prompted by reports of chafing found on the electrical wiring of the cabin ceiling lighting system. The requirements of that AD are intended to prevent the possibility of a fire on an airplane due to such chafing and consequent short circuiting, overheating, and smoking of the wires on the aircraft structure.

Actions Since Issuance of Previous Rule

Since the issuance of that AD, Transport Canada Civil Aviation (TCCA), which is the airworthiness authority for Canada, has advised the FAA that the procedures for rework described in de Havilland Service Bulletin S.B. 8-33-35, dated September 1, 1995, could have been misinterpreted. (That service bulletin was cited as the appropriate source of service information in AD 98-11-21). The misinterpretation could have resulted in failure to install teflon spiral wrap on the wiring of the lavatory lighting system as part of Modification 8/2158.

Explanation of Relevant Service Information

Bombardier has issued Service Bulletin S.B. 8-33-35, Revision ‘B’, dated September 25, 1998, which describes procedures for a one-time inspection for wear and breakage of wire segments of the individual lighting units of the ceiling and sidewall lights, and replacement of any damaged wiring. The service bulletin also describes procedures for installation of teflon spiral wrap on the wiring of the ceiling and sidewall lights (Modification 8/2158). Revision ‘B’ of the service bulletin contains essentially equivalent procedures to those specified in the original issue of the service bulletin, but has been revised to clarify that teflon spiral wrap should also be installed on the wiring of the lavatory lighting system. TCCA classified this service bulletin as mandatory and issued Canadian airworthiness directive CF-95-18R1, dated January 8, 1999, to ensure the continued airworthiness of these airplanes in Canada.

FAA's Conclusions

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would supersede AD 98-11-21 to continue to require the actions specified in that AD. The proposed AD would also add a requirement for a one-time inspection to determine if teflon spiral wrap is installed on the wiring of the lavatory lighting system, and installation, if necessary. The new actions would be required to be accomplished in accordance with the service bulletin described previously.

Cost Impact

There are approximately 73 airplanes of U.S. registry that would be affected by this proposed AD.

The actions that are currently required by AD 98-11-21 take approximately 30 work hours per airplane to accomplish, at an average labor rate of $60 per work hour. Required parts cost approximately $250 per airplane. Based on these figures, the cost impact of the currently required actions on U.S. operators is estimated to be $149,650, or $2,050 per airplane.

The new inspection that is proposed in this AD action would take approximately 2 work hours per airplane to accomplish, at an average labor rate of $60 per work hour. Based on these figures, the cost impact of the proposed requirements of this AD on U.S. operators is estimated to be $8,760, or $120 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10546 (63 FR 29546, July 6, 1998), and by adding a new airworthiness directive (AD), to read as follows:

Bombardier, Inc. (Formerly de Havilland, Inc.): Docket 99-NM-359-AD. Supersedes AD 98-11-21, Amendment 39-10546.

Applicability: Model DHC-8-102, -103, and -301 series airplanes; certificated in any category; serial numbers 002 though 010 inclusive, 012 through 201 inclusive, 203 through 209 inclusive, 211 through 215 inclusive, 217 through 220 inclusive, 222, and 223; except those airplanes on which de Havilland Modification 8/1114 or 8/1110 has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the possibility of a fire on an airplane due to chafing of the electrical wiring of the cabin ceiling lighting system, accomplish the following:

Restatement of Requirements of AD 98-11-21

Inspection for Wire Wear and Breakage

(a) Within 1,000 hours time-in-service or 6 months after July 6, 1998 (the effective date of AD 98-11-21, amendment 39-10546), whichever occurs first: Accomplish the requirements of paragraphs (a)(1) and (a)(2) of this AD in accordance with de Havilland Service Bulletin S.B. 8-33-35, dated September 1, 1995, or Bombardier Service Bulletin S.B. 8-33-35, Revision ‘B’, dated September 25, 1998.

(1) Perform a one-time inspection for wear and breakage of wire segments of the individual lighting units of the ceiling and sidewall lights. Prior to further flight, replace any damaged wiring.

(2) Install teflon spiral wrap on the wiring of the ceiling and sidewall lights (Modification 8/2158).

Note 2: Accomplishment of the actions required by paragraph (a) of this AD in accordance with Bombardier Service Bulletin S.B. 8-33-35, Revision ‘A’, dated July 28, 1998, is acceptable for compliance with that paragraph.

New Requirements of This AD

Inspection for Installed Teflon Spiral Wrap

(b) Within 1,000 hours time-in-service or 6 months after the effective date of this AD, whichever occurs first: Perform a one-time inspection to determine if teflon spiral wrap is installed on the wiring of the lavatory lighting system, in accordance with Bombardier Service Bulletin S.B. 8-33-35, Revision ‘B’, dated September 25, 1998.

(1) If teflon spiral wrap is not installed, prior to further flight, install teflon spiral wrap on the wiring of the lavatory lighting system in accordance with the service bulletin.

(2) If teflon spiral wrap is installed, no further action is required by this paragraph.

Alternative Methods of Compliance

(c)(1) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

(2) Alternative methods of compliance, approved previously in accordance with AD 98-11-21, Amendment 39-10546, are approved as alternative methods of compliance with this AD.

Note 3: Information concerning the existence of approved alternative methods of compliance with this AD, if any, may be obtained from the New York ACO.

Special Flight Permits

(d) Special flight permits may be issued in accordance with sections 21.197 and 21.199 of the Federal Aviation Regulations (14 CFR 21.197 and 21.199) to operate the airplane to a location where the requirements of this AD can be accomplished.

Note 4: The subject of this AD is addressed in Canadian airworthiness directive CF-95-18R1, dated January 8, 1999.

Issued in Renton, Washington, on August 17, 2000.
Donald L. Riggin,
Acting Manager, Transport Airplane Directorate, Aircraft Certification Service.

[FR Doc. 00-21461 Filed 8-22-00; 8:45 am]

BILLING CODE 4910-13-U